DEPARTMENT OF LABOR

Employment and Training Administration

[TA-W-60,388]

Hartz & Company, HL Hartz & Sons, New York, NY; Notice of Revised Determination on Reopening

On May 14, 2007, the Department, on its own motion, reopened its investigation for the former workers of the subject firm.

The initial investigation resulted in a negative determination issued on December 1, 2006 because the workers provided a service that was not in support of the firm's production of apparel. Since the workers were denied eligibility to apply for trade adjustment assistance (TAA) they were also denied eligibility to apply for alternative trade adjustment assistance (ATAA) for older workers.

The Department has determined that the information provided by a former employee of the firm shows that the duties performed by workers of Hartz & Company in New York, New York, including design and marketing, supported the production of men's and women's suits and bottoms at a Hartz & Company facility located domestically. The production workers were certified eligible to apply for adjustment assistance based on increased aggregate U.S. imports of men's and women's suits and bottoms.

All workers of Hartz & Company, New York, New York, were separated when the production facility closed in October 2006.

In order for the Department to issue a certification of eligibility to apply for alternative trade adjustment assistance ATAA, the group eligibility requirements of Section 246 of the Trade Act must be met. The Department has determined in this case that the requirements of Section 246 have been met.

A significant number of workers at the firm are age 50 or over and possess skills that are not easily transferable. Competitive conditions in the apparel industry are adverse.

Conclusion

After careful consideration of the new facts obtained on reopening, it is concluded that increased imports of articles like or directly competitive with men's and women's suits and bottoms produced by Hartz & Company, contributed importantly to the total or partial separation of workers and to the decline in sales or production sales at that firm or subdivision.

In accordance with the provisions of the Trade Act of 1974, I make the following revised determination:

All workers of Hartz & Company, HL Hartz & Sons, New York, New York, who became totally or partially separated from employment on or after November 6, 2005, through two years from the date of certification, are eligible to apply for adjustment assistance under Section 223 of the Trade Act of 1974, as amended, and are also eligible to apply for alternative trade adjustment assistance under Section 246 of the Trade Act of 1974, as amended.

Signed in Washington, DC, this 16th day of May 2007.
Linda G. Poole,
Certifying Officer, Division of Trade Adjustment Assistance.

[FR Doc. E7-10016 Filed 5-23-07; 8:45 am]

BILLING CODE 4510-FN-P